DEPARTMENT OF STATE

[Public Notice 3807]

Universal Postal Union Reform Initiatives

AGENCY: Department of State.

ACTION: Notice of briefing.

The Department of State will host a briefing on Tuesday, November 6, 2001, to provide an update on reform initiatives at the Universal Postal Union (UPU).

The briefing will be held from 2 p.m. until approximately 4 p.m., on November 6, in Room 1105 of the Department of State, 2201 C Street, NW., Washington, DC. The briefing will be open to the public up to the capacity of the meeting room.

The briefing will provide information on the results of the proposals of the High-Level Group on the Future Development of the UPU, and the consideration of those proposals by the UPU Council of Administration. Information will also be provided about a current study of the remail provisions of Article 43 of the UPU Convention and other significant UPU-related issues. The briefing will be chaired by Ambassador E. Michael Southwick of the Department of State.

Entry to the Department of State building is controlled and will be facilitated by advance arrangements. In order to arrange admittance, persons desiring to attend the briefing should, no later than noon on November 5, 2001, notify the Office of Technical and Specialized Agencies, Bureau of International Organization Affairs, Department of State, preferably by fax, providing the name of the meeting and the individual's name, Social Security number, date of birth, professional affiliation, address and telephone number. The fax number to use is (202) 647-8902. Voice telephone is (202) 647-1044. This request applies to both government and non-government individuals.

All attendees must use the main entrance of the Department of State at 22nd and C Streets, NW. Please note that under current security restrictions, C Street is closed to vehicular traffic between 21st and 23rd Streets. Taxis may leave passengers at 21st and C Streets, 23rd and C Streets, or 22nd Street and Constitution Avenue. One of the following means of identification will be required for admittance: any U.S. driver's license with photo, a passport, or any U.S. Government agency identification card.

Questions concerning the briefing may be directed to Mr. Neil Boyer at (202) 647-1044 or via email at boyerna@state.gov.

Dated: September 28, 2001.
Margaret C. Jones,
Director, Office of Technical and Specialized Agencies, Bureau of International Organization Affairs, Department of State.

[FR Doc. 01-25274 Filed 10-5-01; 8:45 am]

BILLING CODE 4710-19-P